ENVIRONMENTAL PROTECTION AGENCY

[FRL-6952-4]

Agency Information Collection Activities: Continuing Collection; Comment Request; Tax-Exempt (Dyed) Highway Diesel Fuel; Requirements for Transferors and Transferees

AGENCY: Environmental Protection Agency (EPA).

ACTION: Notice.

SUMMARY: In compliance with the Paperwork Reduction Act (44 U.S.C. 3501 et seq.), this document announces that EPA is planning to submit the following continuing Information Collection Request (ICR) to the Office of Management and Budget (OMB): Tax-exempt (Dyed) Highway Diesel Fuel: Requirements for Transferors and Transferees (40 CFR 80.29(c)), (EPA ICR Number 1718.03, OMB Control Number 2060-0308, expiration date: 7-31-01). Before submitting the ICR to OMB for review and approval, EPA is soliciting comments on specific aspects of the proposed information collection as described below.

DATES: Comments must be submitted on or before May 18, 2001.

ADDRESSES: Transportation and Regional Programs Division, Office of Transportation and Air Quality, Office of Air and Radiation, Mail Code 6406J, U.S. Environmental Protection Agency, 1200 Pennsylvania Avenue, NW., Washington, DC 20460. A paper or electronic copy of the draft ICR may be obtained without charge by contacting the person listed below.

FOR FURTHER INFORMATION CONTACT: James W. Caldwell, (202) 564-9303, Fax: (202) 565-2085, caldwell.jim@epa.gov.

SUPPLEMENTARY INFORMATION: Affected Entities: Entities potentially affected by this action are those which transfer or receive tax-exempt (dyed) highway diesel fuel.

Title: Tax-exempt (Dyed) Highway Diesel Fuel: Requirements for Transferors and Transferees (40 CFR 80.29(c)), EPA ICR Number 1718.03, OMB Control Number 2060-0308, expiration date: 7-31-01.

Abstract: Diesel fuel for use in motor vehicles, also known as highway diesel fuel, as subject to compositional restrictions, per 40 CFR 80, in order to reduce emissions. Diesel fuel not intended for use in motor vehicles, also known as off-road diesel fuel, has no such restriction. It is required to be dyed red in order to distinguish it from highway diesel fuel, and thus deter its use in motor vehicles. The Internal Revenue Service requires that highway diesel fuel which is tax-exempt contain the same red dye in order to distinguish it from taxed highway diesel fuel, and thus deter its use in vehicles which do not qualify for tax-exempt fuel. In order to distinguish off-road diesel fuel from tax-exempt highway diesel fuel, the product transfer document (PTD) for tax-exempting highway diesel fuel must indicate that the diesel fuel meets the requirements for highway diesel fuel. Typically, a code is used on the PTD to so indicate. The PTD is a necessary document produced in the normal course of business for reasons other than this requirement. Transferors and transferees of tax-exempt highway diesel fuel are required to retain the PTDs for five years, which is customary business practice. See 40 CFR 80.29(c). An agency may not conduct or sponsor, and a person is not required to respond to, a collection of information unless it displays a currently valid OMB control number. The OMB control numbers for EPA's regulations are listed in 40 CFR part 9 and 48 CFR chapter 15.

The EPA would like to solicit comments to:

(i) Evaluate whether the collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: EPA estimates that there are no longer any burdens associated with these reporting and recordkeeping requirements. The computers which print the code or related language on the PTDs were programmed in 1993. Thus, there is no annualized capital cost. The PTDs are produced and retained in the normal course of business. Thus, there is no labor cost and no operating and maintenance cost. No information is reported to EPA. Thus, there is no respondent burden and no respondent cost. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: March 1, 2001.
Deborah Wood,
Acting Director, Transportation and Regional Programs Division.

[FR Doc. 01-6703 Filed 3-16-01; 8:45 am]

BILLING CODE 6560-50-U